ENVIRONMENTAL PROTECTION AGENCY

40 CFR Part 52

[EPA-R04-OAR-2017-0371; FRL-9969-22—Region 4]

Air Plan Approval; Alabama: PSD Replacement Units

AGENCY: Environmental Protection Agency (EPA).

ACTION: Withdrawal of direct final rule.

SUMMARY: Due to the receipt of adverse comments, the Environmental Protection Agency (EPA) is withdrawing the August 24, 2017, direct final rule that approves an Alabama state implementation plan (SIP) revision related to the Prevention of Significant Deterioration (PSD) permitting regulations. EPA will address the comments in a subsequent final action based upon the proposed rulemaking action, also published on August 24, 2017. EPA will not institute a second comment period on this action.

DATES: The direct final rule published at 82 FR 40072, on August 24, 2017, is withdrawn, effective October 12, 2017.

FOR FURTHER INFORMATION CONTACT: Andres Febres, Air Regulatory Management Section, Air Planning and Implementation Branch, Air, Pesticides and Toxics Management Division, U.S. Environmental Protection Agency, Region 4, 61 Forsyth Street SW., Atlanta, Georgia 30303-8960. The telephone number is (404) 562-8966. Ms. Sheckler can also be reached via electronic mail at febres-martinez.andres@epa.gov.

SUPPLEMENTARY INFORMATION: On August 24, 2017 (82 FR 40072), EPA published a direct final rule approving a SIP revision submitted by the State of Alabama, through the Alabama Department of Environmental Management (ADEM). EPA took a direct final action to approve the portions of the May 7, 2012, submission that made changes to ADEM Administrative Code Rule 335-3-14-.04—“Air Permits Authorizing Construction in Clean Air Areas [Prevention of Significant Deterioration Permitting (PSD)].” In particular, the revision adds a definition of “replacement unit” and provides that a replacement unit is a type of existing unit under the definition of “emissions unit,” consistent with Federal regulations.

In the direct final rule, EPA explained that the Agency was publishing the rule without prior proposal because the Agency viewed the submittal as a non-controversial SIP amendment and anticipated no adverse comments. Further, EPA explained that the Agency was publishing a separate document in the proposed rules section of the Federal Register to serve as the proposal to approve the SIP revision should an adverse comment be filed. EPA also noted that the rule would be effective generally 30 days after the close of the public comment period, without further notice unless the Agency received adverse comment by the close of the public comment period. EPA explained that if the Agency received such comments, then EPA would publish a document withdrawing the direct final rule and informing the public that the rule would not take effect. It was also explained that all public comments received would then be addressed in a subsequent final rule based on the proposed rule, and that EPA would not institute a second comment period on this action.

EPA received two adverse comments on the aforementioned rule. As a result of these comments received, EPA is withdrawing the direct final rule approving the aforementioned changes to the Alabama SIPs. EPA will address the comments in a separate final action based on the proposed action also published on August 24, 2017 (82 FR 40085). EPA will not open a second comment period for this action.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: September 29, 2017.
Onis “Trey” Glenn, III,
Regional Administrator, Region 4.

Accordingly, the amendments to 40 CFR 52.50(c) published on August 24, 2017 (82 FR 40072), which was to become effective October 23, 2017, is withdrawn.

[FR Doc. 2017-21940 Filed 10-11-17; 8:45 am]

BILLING CODE 6560-50-P